INTERNATIONAL TRADE COMMISSION

[Investigation No. 731-TA-461 (Fourth Review)]

Gray Portland Cement and Cement Clinker From Japan; Determination

On the basis of the record ¹ developed in the subject five-year review, the United States International Trade Commission (“Commission”) determines, pursuant to the Tariff Act of 1930 (“the Act”), that revocation of the antidumping duty order on gray portland cement and cement clinker from Japan would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted this review on November 1, 2016 (81 FR 75848) and determined on February 6, 2017 that it would conduct an expedited review (82 FR 12465, March 3, 2017).

The Commission made this determination pursuant to section 751(c) of the Act (19 U.S.C. 1675(c)). It completed and filed its determination in this review on June 29, 2017. The views of the Commission are contained in USITC Publication 4704 (June 2017), entitled Gray Portland Cement and Cement Clinker from Japan: Investigation No. 731-TA-461 (Fourth Review).

By order of the Commission.
Issued: June 29, 2017.
Lisa R. Barton,
Secretary to the Commission.

[FR Doc. 2017-14059 Filed 7-3-17; 8:45 am]

BILLING CODE 7020-02-P